DEPARTMENT OF DEFENSE

Department of the Air Force

Intent to Grant an Exclusive Patent License

AGENCY: United States Air Force, DoD.

ACTION: Notice.

SUMMARY: Pursuant to the provisions of Part 404 of Title 37, Code of Federal Regulations, which implements Public Law 96-517, as amended; the Department of the Air Force announces its intention to grant SpiderTek, LLC, a corporation of the State of Missouri, having a place of business at 10101 Stoltz Drive, Rolla, Missouri 65401, an exclusive license in any right, title and interest the Air Force has in:

PCT Application Number PCT/US06/60039, filed on October 17, 2006, entitled “Immunoassay for Venom Detection Including Noninvasive Sample Collection,” by William V. Stoecker, Hernan F. Gomez, Jonathan A. Green, and David L. McGlasson;

U.S. Patent Number 7,927,828, Serial No. 11/550,130, issued on April 19, 2011, entitled “Immunoassay for Venom Detection Including Noninvasive Sample Collection,” by William V. Stoecker, Hernan F. Gomez, Jonathan A. Green, and David L. McGlasson;

U.S. Patent Application Number Serial No. 12/756,875, filed on April 8, 2010, entitled “Immunoassay for Venom Detection Including Noninvasive Sample Collection,” by William V. Stoecker, Hernan F. Gomez, Jonathan A. Green, and David L. McGlasson.

FOR FURTHER INFORMATION CONTACT: Gomez, Jonathan A. Green, and David L. McGlasson. Anyone wishing to object to the grant of this license must file a written objection along with supporting evidence within fifteen (15) days following publication of this Notice. Written objections should be sent to: Air Force Materiel Command Law Office, AFMCLO/JAZ, 2240 B Street, Rm D-14, Wright-Patterson AFB, OH 45433-7109; Facsimile: (937) 255-3733; Email: afmclo.jaz.t2@wpafb.af.mil.

Shannon N. Sanchez,
Acting Air Force Federal Register Liaison Officer.

[FR Doc. 2012-16683 Filed 7-6-12; 8:45 am]

BILLING CODE 5001-10-P